U.S. DEPARTMENT OF THE INTERIOR

Fish and Wildlife Service

[FWS-R8-R-2008-N0282; 81640-1265-0000-S3]

Farallon National Wildlife Refuge, San Francisco County, CA

AGENCY: Fish and Wildlife Service, Interior.

ACTION: Notice of availability; request for comments: draft comprehensive conservation plan and environmental assessment.

SUMMARY: We, the U.S. Fish and Wildlife Service (Service), announce that the Farallon National Wildlife Refuge (Refuge) Draft Comprehensive Conservation Plan and Environmental Assessment (draft CCP/EA) is available for review and comment. Also available for review are the draft compatibility determinations for research and monitoring, media access, and environmental education and monitoring through a remote camera system.

DATES: To ensure that we have adequate time to evaluate and incorporate suggestions and other input into the planning process, we must receive comments on or before February 20, 2009.

ADDRESSES: For information on obtaining documents and submitting comments, see “Public Review and Comment” under SUPPLEMENTARY INFORMATION.

FOR FURTHER INFORMATION CONTACT: Winnie Chan, Refuge Planner, (510) 792-0222.

SUPPLEMENTARY INFORMATION: The National Wildlife Refuge System Administration Act of 1966, as amended by the Improvement Act, requires us to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction on conserving wildlife and their habitats, the CCP identifies wildlife-dependent recreational opportunities available to the public, which can include opportunities for hunting, fishing, wildlife observation and photography, and environmental education and interpretation.

Background

The Refuge is located off the coast of San Francisco and is within San Francisco County. The 211-acre Refuge consists of four island groupings that were first designated as a Refuge in 1909 “as a preserve and breeding ground for native birds” (Executive Order 1043, Feb. 27, 1909). The Refuge supports the largest seabird breeding colony in the contiguous United States and provides wintering and nesting habitat for migratory seabirds and pinnipeds. In 1974, Congress enacted Pub. L. 93-550, which designated all the islands except for Southeast Island as the Farallon Wilderness, totaling 141 acres.

Alternatives

The draft CCP/EA identifies and evaluates four alternatives for managing Farallon National Wildlife Refuge for the next 15 years. Each alternative describes a combination of wildlife, habitat, and public use management prescriptions designed to achieve Refuge purposes. Of the alternatives described below, we believe Alternative C would best achieve the purposes of the Refuge, and therefore we have identified C as the Preferred Alternative.

Alternative A, the no-action alternative, assumes no change from current management programs and is considered the baseline with which to compare other alternatives. Under this alternative, the focus of the Refuge would be to continue to protect and maintain habitats for nesting seabirds including restoration of native vegetation. Wildlife research and monitoring would continue. The Refuge would remain closed to the public, with the exception of requested media visits that are closely supervised by Refuge staff.

Alternative B calls for the development of a vegetation management and monitoring plan to accelerate weed removal and restoration of native vegetation. Non-native house mice would be eradicated to reduce predation of seabirds and a tiered National Environmental Policy Act planning document would be prepared to evaluate the eradication methods and protocols. Public involvement opportunities for this tiered plan would be provided. New research and monitoring methods would be implemented to improve wildlife management. In addition, new or expanded research studies will also be implemented to study other wildlife on the Refuge (e.g., arboreal salamanders, hoary bats, and insects). Law enforcement to reduce wildlife disturbance would be increased through coordination with other agencies and outreach to boaters and pilots. The Refuge would remain closed to public access under this alternative, but limited supervised access for media personnel in order to further public education and provide outreach opportunities for the public would be allowed. While land-based wildlife observation would not be allowed, Refuge staff will coordinate with charter boat operators to enhance their wildlife tours in waters surrounding the Refuge. This alternative also includes outreach and environmental education objectives, including coordination with other outreach organizations in the San Francisco area, the development of environmental education programs and materials for outreach events, a remote camera system, and expanding the existing Farallon program in elementary schools.

Alternative C, the preferred alternative, would include the same components as Alternative B. In addition, a visitor service plan would be developed to consider on-site visitor opportunities such as tours and volunteer activities. Additional areas on Southeast Island would also be considered for seasonal closure to human access (for management purposes) to provide additional nesting habitat and reduce spread of non-native vegetation.

Alternative D would include the same components as Alternative B, but would be more restrictive in terms of access. Human access (for management purposes) would be prohibited at North Landing, portions of Lighthouse Hill, and additional areas during the seabird nesting season to reduce disturbance, encourage expansion of nesting habitat, and prevent the spread of invasive plants. Wildlife monitoring would be reduced as a result of the closures. The Refuge would remain closed to public access. This alternative would also include use of a remote camera system to provide remote monitoring and wildlife observation opportunities.

Public Review and Comment

To obtain a copy of the draft CCP/EA, write to Winnie Chan, Refuge Planner, Farallon NWR CCP, San Francisco Bay NWR Complex, 9500 Thornton Avenue, Newark, CA 94560. You may view a copy of the draft CCP/EA at this address, or you may view it or download it online at: http://www.fws.gov/cno/refuges/farallon/.

Hard copies of the draft CCP/EA are also available at the following locations:

• San Francisco Bay National Wildlife Refuge Complex, 1 Marshlands Road, Fremont, CA 94536.

• San Francisco Public Library, Federal Documents, 100 Larkin Street, San Francisco, CA 94102.

• CA/NV Refuge Planning Office, 2800 Cottage Way, W-1832, Sacramento, CA 95825.

Address any comments on the draft CCP/EA to: Winnie Chan, Refuge Planner, Farallon NWR CCP, San Francisco Bay NWR Complex, 9500 Thornton Avenue, Newark, CA 94560. You may also e-mail comments to sfbaynwrc@fws.gov or fax them to (510) 792-5828. If submitting by fax or e-mail, please type “FNWR CCP” in the subject line.

Public Comments

After the review and comment period ends for this Draft CCP/EA, we will analyze comments and address them in our final CCP/EA. Before including your address, phone number, e-mail address, or other personal identifying information in your comment, you should be aware that your entire comment—including your personal identifying information—may be made publicly available at any time. While you can ask us in your comment to withhold your personal identifying information from public review, we cannot guarantee that we will be able to do so.

Richard E. Sayers, Jr.,
Acting Regional Director, California and Nevada Region, Sacramento, California.

[FR Doc. E8-30308 Filed 12-19-08; 8:45 am]

BILLING CODE 4310-55-P